DEPARTMENT OF HOUSING AND URBAN DEVELOPMENT

[Docket No. FR-5547-D-02]

Order of Succession for the Office of the Chief Information Officer

AGENCY: Office of the Chief Information Officer, HUD.

ACTION: Notice of Order of Succession.

SUMMARY: In this notice, the Chief Information Officer (CIO) for the Department of Housing and Urban Development designates the Order of Succession for the Office of the Chief Information Officer. This Order of Succession supersedes all prior Orders of Succession for the Office of the Chief Information Officer.

DATES: Effective Date: October 20, 2011.

FOR FURTHER INFORMATION CONTACT: Juanita Galbreath, Deputy Chief Information Officer for Cyber Security and Privacy, Office of the Chief Information Officer, Department of Housing and Urban Development, 451 7th Street SW., Room 4164, Washington, DC 20410, telephone number (202) 708-0306 (this is not a toll free number). Persons with hearing or speech impairments may access this number by calling the toll free Federal Relay Service at 1-(800) 877-8339.

SUPPLEMENTARY INFORMATION: The CIO for the Department of Housing and Urban Development is issuing this Order of Succession of officials authorized to perform the functions and duties of the CIO when, by reason of absence, disability, or vacancy in office, the CIO is not available to exercise the powers or perform the duties of the office. This Order of Succession is subject to the provisions of the Federal Vacancies Reform Act of 1998 (5 U.S.C. 3345-3349d). This publication supersedes the Order of Succession notice of all prior Orders of Succession for the Office of the Chief Information Officer.

Accordingly, the CIO designates the following Order of Succession:

Section A. Order of Succession

Subject to the provisions of the Federal Vacancies Reform Act of 1998, during any period when, by reason of absence, disability, or vacancy in office, the Chief Information Officer for the Department of Housing and Urban Development is not available to exercise the powers or perform the duties of the Chief Information Officer, the following officials within the Office of the Chief Information Officer are hereby designated to exercise the powers and perform the duties of the Office:

(1) Deputy Chief Information Officer;

(2) Deputy Chief Information Officer, for IT Operations;

(3) Deputy Chief Information Officer, for Cyber Security and Privacy;

(4) Deputy Chief Information Officer, for Business and IT Modernization.

These officials shall perform the functions and duties of the office in the order specified herein, and no official shall serve unless all the other officials, whose position titles precede his/hers in this order, are unable to act by reason of absence, disability, or vacancy in office.

Section B. Authority Superseded

This Order of Succession supersedes all prior Orders of Succession for the Office of the Chief Information Officer.

Authority: Section 7(d), Department of Housing and Urban Development Act, 42 U.S.C. 3535(d).

Dated: October 20, 2011.
Jerry E. Williams,
Chief Information Officer.

[FR Doc. 2011-28302 Filed 10-31-11; 8:45 am]

BILLING CODE 4210-67-P